DEPARTMENT OF THE INTERIOR

National Park Service

Notice To Extend Public Scoping Period for the Colorado River Management Plan, Environmental Impact Statement, Grand Canyon National Park, Arizona

AGENCY: National Park Service, Interior.

ACTION: Notice to extend the public comment period on scoping issues for preparation of an environmental impact statement (EIS) for the Colorado River Management Plan, Grand Canyon National Park.

SUMMARY: On June 13, 2002, pursuant to the National Environmental Policy Act (NEPA), the public was advised that the National Park Service intends to prepare an EIS for the Colorado River Management Plan (CRMP) for Grand Canyon National Park. Due to public interest, following five successful public scoping meetings in August, the agency will extend the written public comment period and conduct two additional public scoping meetings in the San Francisco/Oakland and the Washington, DC/Baltimore areas.

DATES: The public scoping period is being extended to November 1, 2002. Submissions should be in writing or by e-mail (see ADDRESSES below). Meeting dates and location information will be available on the CRMP Web site at www.nps.gov/grca/crmp.

ADDRESSES: Written comments on issues to be addressed in the EIS.CRMP should be sent to CRMP Project, Grand Canyon National Park, P.O. Box 129, Grand Canyon, Arizona 86023.

SUPPLEMENTARY INFORMATION: Comments may be submitted by any one of several methods. You may mail comments to CRMP Project, Grand Canyon National Park, P.O. Box 129, Grand Canyon, Arizona 86023. You may also comment via electronic mail (e-mail) to grca_crmp@nps.gov. Please submit e-mail comments as a text file avoiding the use of special characters and any form of encryption. Please also include your name, e-mail address, and return address in your e-mail message. If you do not receive a confirmation from the system that we have received your Internet message, contact Linda Jalbert at 928-638-7909. Finally, you may hand-deliver comments to Grand Canyon National Park, or provide at one of the public scoping meetings. Our practice is to make comments, including names and home addresses of respondents, available for public review during regular business hours. Individuals respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

FOR FURTHER INFORMATION CONTACT: Joseph Alston, Superintendent, Grand Canyon National Park, (928) 638-7945.

Dated: August 29, 2002.
Michael D. Synoes,
Director, Intermountain Region, National Service.

[FR Doc. 02-24055 Filed 9-20-02; 8:45 am]

BILLING CODE 4310-70-M